DEPARTMENT OF TRANSPORTATION

Federal Aviation Administration

14 CFR Part 39

[Docket No. 99-CE-19-AD; Amendment 39-12122; AD 2001-04-04]

RIN 2120-AA64

Airworthiness Directives; Dornier Luftfahrt GMBH Models 228-100, 228-101, 228-200, 228-201, 228-202, and 228-212 Airplanes

AGENCY: Federal Aviation Administration, DOT.

ACTION: Final rule.

SUMMARY: This amendment adopts a new airworthiness directive (AD) that applies to all Dornier Luftfahrt GMBH (Dornier) Models 228-100, 228-101, 228-200, 228-201, 228-202, and 228-212 airplanes that have windshield spray nozzle option SCN 3109 installed. This AD requires you to deactivate the windshield spray nozzle heating elements. This AD is the result of mandatory continuing airworthiness information (MCAI) issued by the airworthiness authority for Germany. The actions specified by this AD are intended to prevent the windshield spray nozzle heating system from overheating, which could result in smoke in the cockpit and prompt the crew to initiate emergency actions.

EFFECTIVE DATE: This AD becomes effective on April 6, 2001.

ADDRESSES: You may get the service information referenced in this AD from Dornier Luftfahrt GmbH, Product Support, P.O. Box 1103, D-82230 Wessling, Federal Republic of Germany; telephone: (08153) 302631; facsimile: (08153) 304463. You may examine this information at the Federal Aviation Administration (FAA), Central Region, Office of the Regional Counsel, Attention: Rules Docket No. 99-CE-19-AD, 901 Locust, Room 506, Kansas City, Missouri 64106.

FOR FURTHER INFORMATION CONTACT: Karl Schletzbaum, Aerospace Engineer, FAA, Small Airplane Directorate, 901 Locust, Room 301, Kansas City, Missouri 64106; telephone: (816) 329-4146; facsimile: (816) 329-4090.

SUPPLEMENTARY INFORMATION:

Discussion

What events have caused this AD? The Luftfahrt-Bundesamt (LBA), which is the airworthiness authority for Germany, notified FAA that an unsafe condition may exist on all Dornier Models 228-100, 228-101, 228-200, 228-201, 228-202, and 228-212 airplanes. The LBA reported an incident where the windshield spray nozzle overheated and generated smoke in the cockpit. This prompted the crew to initiate an emergency evacuation during engine start.

The airplane had windshield spray nozzle option SCN 3109 installed.

What are the consequences if the condition is not corrected? If this system overheats, smoke could enter the cockpit and prompt the crew to initiate emergency actions.

Has FAA taken any action to this point? We issued a proposal to amend part 39 of the Federal Aviation Regulations (14 CFR part 39) to include an AD that would apply to all Dornier Models 228-100, 228-101, 228-200, 228-201, 228-202, and 228-212 airplanes that have windshield spray nozzle option SCN 3109 installed.

This proposal was published in the Federal Register as a notice of proposed rulemaking (NPRM) on October 26, 2000 (65 FR 64176). The NPRM proposed to require you to deactivate the windshield spray nozzle heating elements.

Was the public invited to comment? Interested persons were afforded an opportunity to participate in the making of this amendment. We have given due consideration to the comment received.

Comment Disposition

What is the commenter's concern? Dornier requests that FAA withdraw the AD because no airplanes on the U.S. Register have windshield spray nozzle option SCN 3109 installed and, therefore no airplanes are subject to the AD.

What is FAA's response to the concern? We do not concur. Although there may not be any airplanes on the U.S. Register that have this installation, the AD is still justified. Issuing an AD is the only way to assure that:

—The installation is not incorporated on any U.S.-registered airplane in the future; or

—The actions are accomplished on any airplane that is imported from another country and placed on the U.S. Register.

We have not changed the AD as a result of this comment. We have modified the Cost Impact section of this document to reflect the information that Dornier provided.

The FAA's Determination

What is FAA's Final Determination on this Issue? After careful review of all available information related to the subject presented above, we have determined that air safety and the public interest require the adoption of the rule as proposed except for minor editorial corrections. We determined that these minor corrections:

—Will not change the meaning of the AD; and

—Will not add any additional burden upon the public than was already proposed.

Cost Impact

How many airplanes does this AD impact? We estimate that 9 airplanes in the U.S. registry could have windshield spray nozzle option 3109 installed. Based on information received from Dornier, none of these 9 airplanes incorporate this option.

Therefore, this AD imposes no cost impact at this time on U.S. owners/operators of these airplanes. The following presents cost data if an airplane with this option installed was imported from another country and placed on the U.S. Register:

Labor cost | Parts cost | Total cost per airplane
1 workhour × $60 per hour = $60 | Not applicable | $60 per airplane.

Regulatory Impact

Does this AD impact various entities? The regulations adopted herein will not have a substantial direct effect on the States, on the relationship between the national government and the States, or on the distribution of power and responsibilities among the various levels of government. Therefore, it is determined that this final rule does not have federalism implications under Executive Order 13132.

Does this AD involve a significant rule or regulatory action? For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2001-04-04 Dornier Luftfahrt Gmbh: Amendment 39-12122; Docket No. 99-CE-19-AD.

(a) What airplanes are affected by this AD? This AD affects Models 228-100, 228-101, 228-200, 228-201, 228-202, and 228-212 airplanes, all serial numbers, that:

(1) are certificated in any category; and

(2) have windshield spray nozzle option SCN 3109 installed.

(b) Who must comply with this AD? Anyone who wishes to operate any of the above airplanes must comply with this AD.

(c) What problem does this AD address? The actions specified by this AD are intended to prevent the windshield spray nozzle heating system from overheating, which could result in smoke in the cockpit and prompt the crew to initiate emergency actions.

(d) What actions must I accomplish to address this problem? To address this problem, you must accomplish the following:

Action | Compliance time | Procedures
(1) Deactivate the windshield spray nozzle heating elements by cutting wire ME16F20 at the splice at frame 7. Cap (MS2574-2 caps) and stow cables | Within the next 100 hours time-in-service (TIS) after April 6, 2001 (the effective date of this AD), unless already accomplished | Dornier All Operators Telefax (AOT) No. AOT-228-30-022, dated September 9, 1998, references this action.
(2) Do not install, on any affected airplane, windshield spray nozzle option SCN 3109 | As of April 6, 2001 (the effective date of this AD) | Not Applicable.

(e) Can I comply with this AD in any other way? You may use an alternative method of compliance or adjust the compliance time if:

(1) Your alternative method of compliance provides an equivalent level of safety; and

(2) The Manager, Small Airplane Directorate, approves your alternative. Submit your request through an FAA Principal Maintenance Inspector, who may add comments and then send it to the Manager, Small Airplane Directorate.

Note 1: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Karl M. Schletzbaum, Aerospace Engineer, FAA, Small Airplane Directorate, 901 Locust, Room 301, Kansas City, Missouri 64106; telephone: (816) 329-4146; facsimile: (816) 329-4090.

(g) What if I need to fly the airplane to another location to comply with this AD? The FAA can issue a special flight permit under sections 21.197 and 21.199 of the Federal Aviation Regulations (14 CFR 21.197 and 21.199) to operate your airplane to a location where you can accomplish the requirements of this AD.

(h) How do I get copies of the documents referenced in this AD? You may obtain copies of the documents referenced in this AD from Dornier Luftfahrt GmbH, Product Support, P.O. Box 1103, D-82230 Wessling, Federal Republic of Germany; telephone: (08153) 302631; facsimile: (08153) 304463. You may examine these documents at FAA, Central Region, Office of the Regional Counsel, 901 Locust, Room 506, Kansas City, Missouri 64106.

Note 2: The subject of this AD is addressed in German AD Number 1999-030/2, dated April 8, 1999.

(i) When does this amendment become effective? This amendment becomes effective on April 6, 2001.

Issued in Kansas City, Missouri, on February 8, 2001.
Michael Gallagher,
Manager, Small Airplane Directorate, Aircraft Certification Service.

[FR Doc. 01-4048 Filed 2-20-01; 8:45 am]

BILLING CODE 4910-13-P